DEPARTMENT OF THE INTERIOR

Bureau of Land Management

[NV-930-1430-ET; NVN-58357]

Notice of Proposed Withdrawal and Public Meeting; Nevada

AGENCY: Bureau of Land Management, Interior.

ACTION: Notice.

SUMMARY: The Bureau of Land Management proposes to withdraw 6,168.61 acres of public lands from surface entry and mining for a period of 20 years to protect cultural, historic, and recreational resources in and around the Grimes Point Archaeological Area, the Sand Mountain Recreation Area, and the Cold Springs Historical Area in Churchill County. This notice proposes closure of the land from surface entry and mining for up to 2 years while various studies and analyses are made to make a final decision on the withdrawal application.

DATES: Comments should be received on or before August 18, 2003.

ADDRESSES: Comments should be sent to the Nevada State Director, BLM, 1340 Financial Blvd., P.O. Box 12000, Reno, Nevada 89520-0006.

FOR FURTHER INFORMATION CONTACT: Dennis J. Samuelson, BLM Nevada State Office, 775-861-6532.

SUPPLEMENTARY INFORMATION: On January 29, 2003, a petition was approved allowing the Bureau of Land Management to file an application to withdraw the following described public lands from settlement, sale, location, or entry under the general land laws, including the mining laws, but not the mineral leasing laws, subject to valid existing rights:

Mount Diablo Meridian

T.18 N., R.30 E.,

Sec. 15, W½NE¼ and E½NW¼;

Sec. 20, S½SW¼ and SE¼;

Sec. 21, SW¼NE¼, S½NW¼, and S½;

Sec. 29, N½.

T.17 N., R.32 E.,

Sec. 15, S½S½ (unsurveyed);

Sec. 16, SE¼SE¼ (unsurveyed);

Sec. 20, SE¼;

Sec. 21;

Sec. 22, W½ and NE¼;

Secs. 28, 29, 32, and 33;

T.16 N., R.32 E.,

Sec. 4, lots 1 to 4, inclusive, SW¼NE¼, S½NW¼, N½SW¼, and SW¼SW¼;

Sec. 5, lots 1 to 4, inclusive, and S½N½.

T.18 N., R.37 E.,

Sec. 30, NE¼SE¼, SW¼SE¼, and W½SE¼SE¼;

Sec. 33, SW¼NE¼NW¼, SE¼NW¼NW¼, and S½NW¼.

The areas describe aggregate 6,168.61 acres in Churchill County.

The purpose of the withdrawal is to protect cultural, historic, and recreational resources in and around the Grimes Point Archaeological Area, the Sand Mountain Recreation Area, and the Cold Springs Historical Area. The Grimes Point Archaeological Area is recognized as one of the most significant archaeological sites in the Great Basin and is on the National Register of Historic Places. The Sand Mountain Recreation Area contains Sand Mountain, which is over 500 feet tall and is the largest single sand dune in the Great Basin. The Cold Springs Historical Area contains the ruins of an Overland Stage station and a station constructed to support the first transcontinental telegraph.

For a period of 90 days from the date of publication of this notice, all persons who wish to submit comments, suggestions, or objections in connection with the proposed withdrawal may present their views in writing to the Nevada State Director of the Bureau of Land Management at the address above.

Notice is hereby given that there will be an open house/public meeting in connection with the proposed withdrawal from 6 p.m. to 8 p.m., on June 17, 2003, at the Fallon Convention Center, 100 Campus Way, Fallon, Nevada 89406.

Comments, including names and street addresses of commenters, will be available for public review at the Carson City Field Office, 5665 Morgan Mill Road, Carson City, Nevada during regular business hours, 7:30 a.m. to 4:30 p.m., Monday through Friday, except holidays. Individual respondents may request confidentiality. If you wish to hold your name or address from public review or from disclosure under the Freedom of Information Act, you must state this prominently at the beginning of your comments. Such requests will be honored to the extent allowed by law. All submissions from organizations or businesses will be made available for public inspection in their entirety.

The application will be processed in accordance with the regulations set forth in 43 CFR part 2300.

For a period of 2 years from the date of publication of this notice in the Federal Register, the lands will be segregated as specified above unless the application is denied or canceled or the withdrawal is approved prior to that date. Other uses which will be permitted during this segregative period are rights-of-way, leases, and permits at the discretion of the authorized officer.

Dated: March 3, 2003.
Jim Stobaugh,
Lands Team Lead.

[FR Doc. 03-12509 Filed 5-14-03; 3:52 pm]

BILLING CODE 4310-HC-P